INTERNATIONAL TRADE COMMISSION

[Inv. Nos. 701-TA-309-A-B and 731-TA-528 (Review) (Remand)]

Magnesium From Canada; Notice and Scheduling of Remand Proceeding

AGENCY: U.S. International Trade Commission.

ACTION: Notice.

SUMMARY: The U.S. International Trade Commission (“Commission”) hereby gives notice that it is inviting the parties to the North American Free Trade Agreement (NAFTA) Chapter 19 panel proceeding in Magnesium from Canada, USA-CDA-00-1904-09, to file comments in the remand proceeding ordered by the NAFTA binational panel.

FOR FURTHER INFORMATION CONTACT: Peter L. Sultan, Esq., Office of the General Counsel, telephone (202) 205-3094, U.S. International Trade Commission, 500 E Street, SW., Washington, DC 20436. Hearing-impaired persons are advised that information on this matter can be obtained by contacting the Commission's TDD terminal on (202) 205-1810. The public record for this investigation may be viewed on the Commission's electronic docket (EDIS) at http://edis.usitc.gov. General information concerning the Commission may also be obtained by accessing its Internet server (http://www.usitc.gov).

SUPPLEMENTARY INFORMATION:

Background

On July 16, 2002, a NAFTA Panel remanded the Commission's affirmative sunset review determination in Magnesium from Canada, Inv. Nos. 701-TA-309-A-B and 731-TA-528 (Review), USITC Pub. 3324 (July 2000). In response, the Commission submitted a remand determination to the Panel in October 2002. On January 17, 2006, the NAFTA Panel affirmed in part and remanded in part the Commission's 2002 remand determination. The Panel remanded the determination to the Commission with an order to take further action consistent with its instructions. The Commission is directed to issue its remand determination within 60 days of the issuance of the Panel's decision, i.e., by March 17, 2006.

Participation in the Remand Proceedings

Only the parties to the NAFTA Chapter 19 panel proceeding may participate in this remand proceeding. No additional filings with the Commission will be necessary for these parties to participate in the remand proceeding. Business proprietary information (“BPI”) referred to during the remand proceeding will be governed, as appropriate, by the administrative protective order issued in the sunset reviews.

Written Submissions

The Commission invites the parties to the NAFTA Chapter 19 panel proceeding to file comments on or before February 21, 2006, with respect to how the record bears on the Panel's instruction that the Commission “provide further reasoned analysis supported by substantial evidence on the record, including any factual evidence not referred to in its Views on Remand, as to the conclusion that Magnola would enter the market by underselling in order to establish export volumes that would be significant in relation to anticipated demand increases.”

These comments must be limited to the precise issue in the Panel's remand instruction quoted above, and must be based solely on the information already in the Commission's record and may not include additional factual information. Comments shall not exceed fifteen (15) pages of textual material, double-spaced and single-sided, on stationery measuring 8½ x 11 inches.

All written submissions must conform with the provisions of section 201.8 of the Commission's rules; any submissions that contain BPI must also conform with the requirements of sections 201.6, 207.3, and 207.7 of the Commission's rules. The Commission rules do not authorize filing submissions with the Secretary by facsimile or electronic means, except to the extent permitted by section 201.8 of the Commission's rules, as amended, 67 FR 68036 (Nov. 8, 2002).

In accordance with sections 201.16(c) and 207.3 of the Commission's rules, each document filed by a party to the NAFTA Chapter 19 panel proceeding must be served on all other such parties, and a certificate of service must be timely filed. The Secretary will not accept a document for filing without a certificate of service.

Parties are also advised to consult the Commission's Rules of Practice and Procedure, part 201, subparts A through E (19 CFR part 201), and part 207, subpart A (19 CFR part 207) for provisions of general applicability concerning written submissions to the Commission.

Authority: This action is taken under the authority of the Tariff Act of 1930, title VII.

By order of the Commission.
Issued: February 9, 2006.
Marilyn R. Abbott,
Secretary to the Commission.

[FR Doc. E6-2070 Filed 2-14-06; 8:45 am]

BILLING CODE 7020-02-P